DEPARTMENT OF ENERGY

Federal Energy Regulatory Commission

[Docket No. EG01-139-000, et al.]

NEO California Power LLC, et al., Electric Rate and Corporate Regulation Filings

March 9, 2001.

Take notice that the following filings have been made with the Commission:

1. NEO California Power LLC

[Docket No. EG01-139-000]

Take notice that on March 6, 2001, NEO California Power LLC (NEO California) filed with the Federal Energy Regulatory Commission an application for determination of exempt wholesale generator status pursuant to section 32 of the Public Utility Holding Company Act of 1935 (PUHCA) and part 365 of the Commission's regulations.

As more fully explained in the application, NEO California is a limited liability company that will be engaged either directly or indirectly and exclusively in the business of owning and operating electric generation facilities located in California.

Comment date: March 30, 2001, in accordance with Standard Paragraph E at the end of this notice. The Commission will limit its consideration of comments to those that concern the adequacy or accuracy of the application.

2. LG&E Power Monroe LLC

[Docket No. EG01-140-000]

Take notice that on March 6, 2001, LG&E Power Monroe (Power Monroe), a Delaware limited liability company with its principal place of business at 220 West Main Street, Louisville, Kentucky 40232, filed with the Federal Energy Regulatory Commission an application for determination of exempt wholesale generator status pursuant to part 365 of the Commission's regulations.

Power Monroe proposes to construct, own and operate three 170 megawatt combustion turbine electric generating units in Walton County, Georgia. The units are scheduled to be completed in March 2001 and to be in service by June 1, 2001. All capacity and energy from the plant will be sold exclusively at wholesale.

Comment date: March 30, 2001, in accordance with Standard Paragraph E at the end of this notice. The Commission will limit its consideration of comments to those that concern the adequacy or accuracy of the application.

3. Effingham County Power, LLC

[Docket No. EG01-141-000]

Take notice that on March 6, 2001, Effingham County Power, LLC, 411 Fayetteville Street Mall, Raleigh, NC 27602, filed with the Federal Energy Regulatory Commission an application for determination of exempt wholesale generator status pursuant to part 365 of the Commission's regulations. The applicant is a limited liability company that will engage directly or indirectly and exclusively in the business of owning and/or operating eligible facilities in the United States and selling electric energy at wholesale. The applicant proposes to own and operate an approximately 537 megawatt gas-fired combustion turbine. The applicant seeks a determination of its exempt wholesale generator status. All electric energy sold by the applicant will be sold exclusively at wholesale.

Comment date: March 30, 2001, in accordance with Standard Paragraph E at the end of this notice. The Commission will limit its consideration of comments to those that concern the adequacy or accuracy of the application.

4. Rowan County Power, LLC

[Docket No. EG01-142-000]

Take notice that on March 6, 2001, Rowan County Power, LLC, 411 Fayetteville Street Mall, Raleigh, NC 27602, filed with the Federal Energy Regulatory Commission an application for determination of exempt wholesale generator status pursuant to part 365 of the Commission's regulations. The applicant is a limited liability company that will engage directly or indirectly and exclusively in the business of owning and/or operating eligible facilities in the United States and selling electric energy at wholesale. The applicant proposes to own and operate an approximately 500 megawatt gas-fired combustion turbine. The applicant seeks a determination of its exempt wholesale generator status. All electric energy sold by the applicant will be sold exclusively at wholesale.

Comment date: March 30, 2001, in accordance with Standard Paragraph E at the end of this notice. The commission will limit its consideration of comments to those that concern the adequacy or accuracy of the application.

5. West Penn Power Company

[Docket No. ER01-1404-000]

Take notice that on March 6, 2001, West Penn Power Company, dba Allegheny Power, filed an Addendum to its Electric Service Agreement with Allegheny Electric Cooperative, Inc. to add a delivery point.

An effective date for the new delivery point of February 21, 2001 is requested.

Copies of the filing have been provided to the public Utilities Commission of Ohio, the Pennsylvania Public Utility Commission, the Maryland Public Service Commission, the Virginia State Corporation Commission, the West Virginia Public Service Commission and all parties of record.

Comment date: March 27, 2001, in accordance with Standard Paragraph E at the end of this notice.

6. Mississippi Power Company

[Docket No. ER01-1405-000]

Take notice that on March 6, 2001, Mississippi Power Company and Southern Company Services, Inc., its agent, tendered for filing a Service Agreement with South Mississippi Electric Power Association for the Wellman Delivery Point, pursuant to the Southern Companies' Electric Tariff, FERC Electric Tariff, First Revised Volume No. 4. The agreement will permit Mississippi Power to continue to provide wholesale electric service to South Mississippi Electric Power Association at the Wellman Delivery Point.

Copies of the filing were served upon South Mississippi Electric Power Association, the Mississippi Public Service Commission, and the Mississippi Public Utilities Staff.

Comment date: March 27, 2001, in accordance with Standard Paragraph E at the end of this notice.

7. Idaho Power Company

[Docket No. ER01-1406-000]

Take notice that on March 6, 2001, Idaho Power Company (Idaho Power) filed a notice of termination of its Participation Agreement pursuant to section 18.3 of the California Power Exchange Corporation (PX) FERC Electric Service Tariff No. 2 (PX Tariff) with the PX. Idaho Power asserts that such notice should be sufficient to effect termination. If such notice is found to be insufficient by the Commission, Idaho Power states that it makes this filing to insure termination of said agreement.

Idaho Power requests any waivers as may be necessary to make termination of its Participation Agreement effective January 24, 2001.

Idaho Power states that this filing has been served on the PX.

Comment date: March 27, 2001, in accordance with Standard Paragraph E at the end of this notice.

8. California Independent System Operator Corporation

[Docket No. ER01-1408-000]

Take notice that on March 6, 2001, the California Independent System Operator Corporation, tendered for filing a Participating Generator Agreement between the ISO and Mountain View Power Partners, L.L.C. for acceptance by the Commission.

The ISO states that this filing has been served on Mountain View Power Partners, L.L.C. and the California Public Utilities Commission.

The ISO is requesting waiver of the 60-day notice requirement to allow the Participating Generator Agreement to be made effective February 22, 2001.

Comment date: March 27, 2001, in accordance with Standard Paragraph E at the end of this notice.

9. MidAmerican Energy Company

[Docket No. ER01-1409-000]

Take notice that on March 6, 2001, MidAmerican Energy Company (MidAmerican) filed with the Commission a Notice of Cancellation pursuant to Section 35.15 of the Commission's regulations, of a Firm Power Interchange Service Agreement dated November 17, 1987 between Iowa Public Service Company (a predecessor company of MidAmerican) and Union Electric Company (a predecessor company of Ameren Energy Company). This Agreement has been designated as MidAmerican Rate Schedule No. 78.

MidAmerican requests that the rate schedule be canceled effective 11:59 p.m. on May 31, 2001:

MidAmerican has mailed a copy of this filing to Ameren Energy, the Iowa Utilities Board, the Illinois Commerce Commission and the South Dakota Public Utilities Commission.

Comment date: March 27, 2001, in accordance with Standard Paragraph E at the end of this notice.

10. California Independent System Operator Corporation

[Docket No. ER01-1410-000]

Take notice that on March 6, 2001, the California Independent System Operator Corporation, tendered for filing a Meter Service Agreement for ISO Metered Entities between the ISO and Mountain View Power Partners, L.L.C. for acceptance by the Commission.

The ISO states that this filing has been served on Mountain View Power Partners, L.L.C. and the California Public Utilities Commission.

The ISO is requesting waiver of the 60-day notice requirement to allow the Meter Service Agreement for ISO Metered Entities to be made effective February 22, 2001.

Comment date: March 27, 2001, in accordance with Standard Paragraph E at the end of this notice.

11. PacifiCorp

[Docket No. ER01-1411-000]

Take notice that PacifiCorp on March 6, 2001, tendered for filing in accordance with 18 CFR Part 35 of the Commission's Rules and Regulations, a Long-Term Firm Transmission Service Agreement with Idaho Power Company (Idaho) under PacifiCorp's FERC Electric Tariff, Second Revised Volume No. 11 (Tariff).

Copies of this filing were supplied to the Washington Utilities and Transportation Commission and the Public Utility Commission of Oregon.

Comment date: March 27, 2001, in accordance with Standard Paragraph E at the end of this notice.

12. Avista Energy, Inc.

[Docket No. ER01-1415-000]

Take notice that on March 6, 2001, Avista Energy, Inc. (Avista) filed a notice of termination pursuant to Section 4.2 of the Block Forward Participation Agreement between Avista and CalPX Trading Services (CTS) (CTS Participation Agreement).

Avista requests that the notice of termination be effective on February 8, 2001.

Avista states that this filing has been served on the CTS.

Comment date: March 27, 2001, in accordance with Standard Paragraph E at the end of this notice.

13. PSI Energy, Inc.

[Docket No. ER01-1416-000]

Take notice that on March 6, 2001, PSI Energy, Inc. tendered for filing three substitute sheets to its Power Coordination Agreement with Wabash Valley Power Association, Inc.

This filing has been served on Wabash Valley Power Association, Inc.

Comment date: March 27, 2001, in accordance with Standard Paragraph E at the end of this notice.

14. Richmond County Power, LLC

[Docket No. ER01-1417-000]

Take notice that on March 6, 2001, Richmond County Power, LLC tendered for filing an application for authorization to sell energy, capacity and ancillary services at market-based rates.

Comment date: March 27, 2001, in accordance with Standard Paragraph E at the end of this notice.

15. Effingham County Power, LLC

[Docket No. ER01-1418-000]

Take notice that on March 6, 2001, Effingham County Power, LLC tendered for filing an application for authorization to sell power at market-based rates.

Comment date: March 26, 2001, in accordance with Standard Paragraph E at the end of this notice.

16. Rowan County Power, LLC

[Docket No. ER01-1419-000]

Take notice that on March 6, 2001, Rowan County Power, LLC tendered for filing an application for authorization to sell power at market-based rates.

Comment date: March 27, 2001, in accordance with Standard Paragraph E at the end of this notice.

Standard Paragraphs

E. Any person desiring to be heard or to protest such filing should file a motion to intervene or protest with the Federal Energy Regulatory Commission, 888 First Street, NE., Washington, DC. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-6520 Filed 3-15-01; 8:45 am]

BILLING CODE 6717-01-P